DEPARTMENT OF COMMERCE

International Trade Administration

[A-570-836]

Glycine From the People's Republic of China: Notice of Amended Final Results of Antidumping Duty Administrative Review

AGENCY: Import Administration, International Trade Administration, U.S. Department of Commerce.

SUMMARY: The Department of Commerce (“the Department”) is amending the final results of the administrative review of the antidumping duty order on glycine from the People's Republic of China (“PRC”) to reflect the correction of a ministerial error in the final results. The period of review (“POR”) is March 1, 2003, through February 29, 2004.

EFFECTIVE DATE: September 13, 2005.

FOR FURTHER INFORMATION CONTACT: Carrie Blozy at (202) 482-5403; AD/CVD Operations, Office 9, Import Administration, International Trade Administration, U.S. Department of Commerce, 14th Street and Constitution Avenue, NW., Washington, DC 20230.

SUPPLEMENTARY INFORMATION:

Background

On August 12, 2005, the Department published the final results of its administrative review of the antidumping duty order on glycine from PRC. See Glycine From the People's Republic of China: Final Results of Antidumping Duty Administrative Review, 70 FR 47176 (August 12, 2005) (Final Results). On August 12, 2005, the respondent, Baoding Mantong Fine Chemistry Co., Ltd. (Baoding Mantong), timely submitted comments alleging that the Department made a certain ministerial error in the Final Results by using an incorrect U.S. price. No rebuttal comments were filed.

Amended Final Results

After reviewing the ministerial error allegation, we have determined that the Department did make a clerical error in completing the Final Results by making an improper adjustment to U.S. price, and we have amended the Final Results accordingly. For a detailed discussion of the Department's analysis of the ministerial error allegation, see Ministerial Error Allegation Memorandum, dated concurrently with this notice.

Pursuant to section 751(h) of the Tariff Act of 1930, as amended (“the Act”), we have amended the Final Results by correcting the ministerial error regarding U.S. price. We will issue amended cash-deposit instructions to U.S. Customs and Border Protection to reflect the amendment of the final results of this review. Pursuant to these amended results, we revised the dumping margin as follows:

Manufacturer/exporter | Margin (percent)
Baoding Mantong Fine Chemistry Co., Ltd. | 2.95

The amended final results of this administrative review and notice are in accordance with sections 751(a)(1), 751(h), and 777(i)(1) of the Act.

Dated: September 6, 2005.
Joseph A. Spetrini,
Acting Assistant Secretary for Import Administration.

[FR Doc. E5-5001 Filed 9-12-05; 8:45 am]

BILLING CODE 3510-DS-P